DEPARTMENT OF THE TREASURY

Office of the Comptroller of the Currency

12 CFR Part 41

[Docket ID OCC-2009-0001]

RIN 1557-AD14

FEDERAL RESERVE SYSTEM

12 CFR Part 222

[Regulation V; Docket No. R-1203, R-1255]

FEDERAL DEPOSIT INSURANCE CORPORATION

12 CFR Part 334

RIN 3064-AC83; 3064-AD00

DEPARTMENT OF THE TREASURY

Office of Thrift Supervision

12 CFR Part 571

[Docket ID OTS-2009-0012]

RIN 1550-AC30

NATIONAL CREDIT UNION ADMINISTRATION

12 CFR Part 717

RIN 3133-AC90 and RIN 3133-AD00

FEDERAL TRADE COMMISSION

16 CFR Parts 641, 680, 681, and 698

RIN 3084-AA94

Fair Credit Reporting Affiliate Marketing Regulations; Identity Theft Red Flags and Address Discrepancies Under the Fair and Accurate Credit Transactions Act of 2003; Correction

AGENCY: Office of the Comptroller of the Currency, Treasury (OCC); Board of Governors of the Federal Reserve System (Board); Federal Deposit Insurance Corporation (FDIC); Office of Thrift Supervision, Treasury (OTS); National Credit Union Administration (NCUA); and Federal Trade Commission (Commission).

ACTION: Final rule; correction.

SUMMARY: The OCC, Board, FDIC, OTS, NCUA, and Commission published in the Federal Register on May 14, 2009 a technical correction to final rules to implement the affiliate marketing provisions and identity theft red flags and address discrepancy provisions of the Fair and Accurate Credit Transactions Act of 2003 (FACT Act). The correction included in this Federal Register document corrects an error in the DATES section which caused the effective date to an amendment to the Commission's rules to be incorrect. This correction does not affect the OCC's, Board's, FDIC's, OTS's, or NCUA's rules.

DATES: Effective Date: This correction is effective July 8, 2009.

FOR FURTHER INFORMATION CONTACT: OCC: Jon Mitchell, Attorney, Legislative and Regulatory Activities Division, (202) 874-5090, Office of the Comptroller of the Currency, 250 E Street, SW., Washington, DC 20219.

Board: Amy E. Burke, Senior Attorney, or Jelena McWilliams, Attorney, Division of Consumer and Community Affairs, (202) 452-3667 or (202) 452-2412; or Kara Handzlik, Attorney, Legal Division, (202) 452-3852, Board of Governors of the Federal Reserve System, 20th and C Streets, NW., Washington, DC 20551. For users of a Telecommunications Device for the Deaf (TDD) only, contact (202) 263-4869.

FDIC: Richard M. Schwartz, Counsel, Legal Division, (202) 898-7424; Jeffrey M. Kopchik, Senior Policy Analyst, (202) 898-3872, or Samuel Frumkin, Senior Policy Analyst, (202) 898-6602, Division of Supervision and Consumer Protection, Federal Deposit Insurance Corporation, 550 17th Street, NW., Washington, DC 20429.

OTS: Suzanne McQueen, Consumer Regulations Analyst, Compliance and Consumer Protection Division, (202) 906-6459; April Breslaw, Director, Consumer Regulations, (202) 906-6989; or Richard Bennett, Senior Compliance Counsel, Regulations and Legislation Division, (202) 906-7409, Office of Thrift Supervision, 1700 G Street, NW., Washington, DC 20552.

NCUA: Linda Dent, Attorney, or Regina Metz, Attorney, Office of General Counsel, 703-518-6540, National Credit Union Administration, 1775 Duke Street, Alexandria, VA 22314-3428.

Commission: Anthony Rodriguez (Affiliate Marketing Rule) or Cora Han (Identity Theft Red Flags Rules), Attorneys, Division of Privacy and Identity Protection, Bureau of Consumer Protection, (202) 326-2252, Federal Trade Commission, 600 Pennsylvania Avenue, NW., Washington, DC 20580.

SUPPLEMENTARY INFORMATION: The OCC, Board, FDIC, OTS, NCUA, and Commission published a document in the Federal Register on May 14, 2009 (74 FR 22639). The document (OCC-2009-0001; FR-R-1203 and R-1255; FDIC 3064-AD00; OTS-2008-0024; NCUA RIN 3133-AC90 and RIN 3133-AD00; and FTC RIN 3084-AA94) made technical corrections to the final rules implementing the affiliate marketing provisions and identity theft red flags and address discrepancy provisions of the Fair and Accurate Credit Transactions Act of 2003 (FACT Act). The document also provided effective dates for these corrections. This document corrects an error in the DATES section, where renumbered amendatory instructions caused the effective date to an amendment to the Commission's rules to be incorrect.

In the technical corrections amendment to the final rule, FR Doc. No. 2009-10009 published on May 14, 2009 (74 FR 22639), make the following correction: “On page 22639, in the center column, in the DATES section, the number “34” in the fourth line is corrected to read “35”.

By the Office of the Comptroller of the Currency.
Julie L. Williams,
First Senior Deputy Comptroller and Chief Counsel.
By order of the Secretary of the Board acting under delegated authority, July 1, 2009.
Jennifer J. Johnson,
Secretary of the Board.
Dated at Washington, DC, this 22nd day of June 2009.
By order of the Board of Directors.
Federal Deposit Insurance Corporation.
Robert E. Feldman,
Executive Secretary.
Dated: June 17, 2009.
By the Office of Thrift Supervision,
Deborah Dakin,
Acting Chief Counsel.
By order of the National Credit Union Administration Board, June 18, 2009.
Mary F. Rupp,
Secretary of the Board.
By Direction of the Commission.
Donald S. Clark,
Secretary.

[FR Doc. E9-16030 Filed 7-7-09; 8:45 am]

BILLING CODE 4810-33-P; 6210-01-P; 6714-01-P; 6720-01-P; 7535-01-P; 3084-88-P